DEPARTMENT OF HEALTH AND HUMAN SERVICES

Centers for Disease Control and Prevention

[30Day-12-0842]

Agency Forms Undergoing Paperwork Reduction Act Review

The Centers for Disease Control and Prevention (CDC) publishes a list of information collection requests under review by the Office of Management and Budget (OMB) in compliance with the Paperwork Reduction Act (44 U.S.C. Chapter 35). To request a copy, call the CDC Reports Clearance Officer at (404) 639-7570 or send an email to omb@cdc.gov. Send written comments to CDC Desk Officer, Office of Management and Budget, Washington, DC or by fax to (202) 395-6974. Written comments should be received within 30 days of this notice.

Proposed Project

STD Surveillance Network (SSuN)-(OMB 0920-0842 Exp: 1/31/2013)—Revision—National Center for HIV/AIDS, Viral Hepatitis, STD, and TB Prevention (NCHHSTP), Centers for Disease Control and Prevention (CDC).

Background and Brief Description

The purpose of the STD Surveillance Network (SSuN) project is to improve the capacity of national, state, and local STD programs to detect, monitor, and respond rapidly to trends in STDs through enhanced collection, reporting, analysis, visualization and interpretation of disease information. The objectives of the SSuN Project are (1) To establish an integrated network of sentinel STD clinics and health departments to inform and guide national programs and policies for STD control in the U.S.; (2) to improve the capacity of national, state and local STD programs to detect, monitor and respond to established and emerging trends in STDs, HIV, and viral hepatitis; and (3) to identify and evaluate the effectiveness of public health interventions to reduce STD morbidity.

The SSuN Project is an active STD sentinel surveillance network comprised of 12 surveillance sites around the United States. SSuN uses two surveillance strategies to collect information. The first is a STD clinic-based surveillance which extracts data from existing electronic medical records for all patient visits at participating STD clinics. The second is a population-based surveillance in which a sample of individuals reported with gonorrhea to the 12 SSuN state or city health departments are interviewed using locally-designed interview templates.

For the clinic-based surveillance, the specified data elements are abstracted on a quarterly basis from existing electronic medical records for all patient visits to participating clinics. Data in the electronic medical record may be collected at time of registration, during the clinic encounter, or through laboratory testing. For the population-based STD surveillance, the results of interviews will be entered into a developed Microsoft Access database that will be adapted locally for each clinic. High quality, informative, and timely surveillance data are necessary to guide STD programs so interventions are designed and implemented appropriately. Furthermore, surveillance data are necessary for understanding the impact of STD interventions based on the epidemiology of each STD.

This information is collected to establish an integrated network of sentinel STD clinics and health departments to inform and guide national programs and policies for STD control in the U.S. It will improve the capacity of national, state, and local STD programs to detect, monitor, and respond to established and emerging trends in STDs, HIV, and viral hepatitis. SSuN will help identify and evaluate the effectiveness of public health interventions to reduce STD morbidity.

The SSuN surveillance platform allows CDC to establish and maintain common standards for data collection, transmission, and analysis, and to build and maintain STD surveillance expertise in 12 surveillance areas. Such common systems, established mechanisms of communication, and in-place expertise are all critical components for timely, flexible, and high quality surveillance.

There is no cost to respondents other than their time. The total estimated annual burden hours are 480.

Estimated Annualized Burden Hours
Types of respondent | Number of respondents | Number of responses per respondent | Average burden per response (in hours)
SSuN site | 12 | 4 | 2
Gonorrhea Case | 2,880 | 1 | 8/60

Kimberly S. Lane,
Deputy Director, Office of Science Integrity, Office of the Associate Director for Science, Office of the Director, Centers for Disease Control and Prevention.

[FR Doc. 2012-16913 Filed 7-10-12; 8:45 am]

BILLING CODE 4163-18-P